DEPARTMENT OF DEFENSE

Department of the Air Force

Notice of Intent To Grant an Exclusive Patent License

AGENCY: Department of the Air Force, Department of Defense.

ACTION: Notice of intent.

SUMMARY: Pursuant to the provisions of Part 404 of Title 37, Code of Federal Regulations, which implements Public Law 96-517, as amended; the Department of the Air Force announces its intention to grant the University of Dayton, a research university duly organized, validly existing, and in good standing in the State of Ohio, having a place of business at 300 College Park, Dayton, OH 45469.

DATES: The Air Force intends to grant a license for the patent and pending applications unless a written objection is received within fifteen (15) calendar days from the date of publication of this Notice.

ADDRESSES: Written objection should be sent to: Air Force Materiel Command Law Office, AFMCLO/JAZ, 2240 B Street, Rm 101, Wright-Patterson AFB, OH 45433-7109; Facsimile: (937) 255-3733.

FOR FURTHER INFORMATION CONTACT: Air Force Materiel Command Law Office, AFMCLO/JAZ, 2240 B Street, Rm. 101, Wright-Patterson AFB, OH 45433-7109; Facsimile: (937) 255-3733.

SUPPLEMENTARY INFORMATION: An exclusive, with respect to future sub licensees, license in any right, title, and interest of the Air Force in: U.S. Application No. 14/754,914, entitled “Layered Polymer-Based Capacitor Device,” by James Grote et al., and filed on June 30, 2015.

Henry Williams,
Acting Air Force Federal Register Liaison Officer.

[FR Doc. 2015-20368 Filed 8-18-15; 8:45 am]

BILLING CODE 5001-10-P